DEPARTMENT OF AGRICULTURE

Forest Service

Powell Ranger District; Utah; Powell Travel Management Project

AGENCY: Forest Service, USDA.

ACTION: Notice of intent to prepare an environmental impact statement.

SUMMARY: The Forest Service will prepare an Environmental Impact Statement (EIS) to disclose the effects of revising the motorized travel plan for the Powell Ranger District (District) of the Dixie National Forest. The District is proposing to relocate, reclassify, or decommission a number of existing roads and trails as well as construct or designate new roads and trails. Some of the activities are proposed within Inventoried Roadless Areas. This revision only addresses subpart B of the Travel Management Rule which provides for a system of National Forest Roads, National Forest Trails, and areas on the National Forest System (NFS) lands that are designated for motorized use. This project does not address over the snow motor vehicle use, motorized cross-country travel, nor does it revisit motorized cross-country travel for big game retrieval. The project is limited to addressing known deficiencies for the District in the 2009 Dixie National Forest Motorized Travel Plan.

DATES: Comments concerning the scope of the analysis must be received by February 9, 2015. The draft environmental impact statement is expected in August, 2015, and the final environmental impact statement is expected in March, 2016.

ADDRESSES: Send written comments to: Paul Hancock, District Ranger; Powell Ranger District; Dixie National Forest; Attn: Powell Travel Management, 225 East Center Street, P.O. Box 80, Panguitch, UT 84759. Comments may also be sent via email to comments-intermtn-dixie-powell@fs.fed.us, or via facsimile to (435) 676-9391.

FOR FURTHER INFORMATION CONTACT: Keith Gustafson, Project Leader; 225 E. Center Street; P.O. Box 80; Panguitch, UT 84759; telephone: (435) 676-9354; email: keithgustafson@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of this project is to revise the Motorized Travel Plan for the Powell Ranger District of the Dixie National Forest. The revision is to provide a road and trail system for the District, designated for motorized use that is considered safe and responsive to public needs and desires, conforms to the Forest Plan, and is environmentally sound. This action is needed because: (1) There is a need for travel management revisions to restore or protect forest resources and conditions. (2) There is a need for travel management revisions to provide a broad range of dispersed motorized recreation opportunities; to disperse motorized recreation users to prevent overuse in popular areas; and provide safety for the user. (3) There is a need for travel management revisions to improve special and public use administration and to reduce resource impacts from these activities.

Proposed Action

To meet the purpose and need for action, the Powell Ranger District of the Dixie National Forest proposes to make changes to the existing system of roads on the District. For details of the proposed action please visit the following Web page: http://www.fs.usda.gov/projects/dixie/landmanagement/projects and click on Powell Travel Management Project.

Lead and Cooperating Agencies

Lead Agency—USDA Forest Service, Dixie National Forest.

Cooperating Agencies—Garfield and Kane Counties, Utah.

Responsible Official

Forest Supervisor, Dixie National Forest.

Scoping Process

This notice of intent initiates the scoping process, which guides the development of the environmental impact statement. Additional information about the project and information about scheduled public meetings can be found on the project Web page at http://www.fs.usda.gov/projects/dixie/landmanagement/projects and click on Powell Travel Management Project.

It is important that reviewers provide their comments at such times and in such manner that they are useful to the agency's preparation of the environmental impact statement. Therefore, comments should be provided prior to the close of the comment period and should clearly articulate the reviewer's concerns and contentions.

Please keep comments specific to only this proposal. Comments which are not specific to the project and project area will be deemed outside the scope of the analysis and will not be considered. If you provide recommendations for changes to routes or areas, please include route numbers or location descriptions, as well as the reasons for your recommendations. If you are including references, citations, or additional information to be considered for this project, please specify exactly how the material relates to the project. Also indicate exactly what part of the material you would like the District to consider (such as page or figure number).

Comments received in response to this solicitation, including names and addresses of those who comment, will be part of the public record for this project proposal. Individuals or organizations who submit timely and specific written comments regarding the proposed project will be eligible to file an objection (36 CFR 218). Comments submitted anonymously will be accepted and considered; however, anonymous comments will not provide the Agency with the ability to provide the respondent with subsequent environmental documents nor will the respondent be eligible to provide an objection pursuant to 36 CFR 218.

Dated: January 2, 2015.
Paul H. Hancock,
Acting Forest Supervisor.

[FR Doc. 2015-00082 Filed 1-7-15; 8:45 am]

BILLING CODE 3410-11-P